DEPARTMENT OF LABOR

Employment and Training Administration

[TA-W-60,023]

Benchmark Electronics, Inc.

Loveland Division, Including On-Site Leased Workers of Volt Services Group Who Were Retained by Verigy US Development, Loveland, Colorado; Amended Certification Regarding Eligibility to Apply for Worker Adjustment Assistance and Alternative Trade Adjustment Assistance

In accordance with section 223 of the Trade Act of 1974 (19 U.S.C. 2273), and section 246 of the Trade Act of 1074 (26 U.S.C. 2813), as amended, the Department of Labor issued a Certification of Eligibility to Apply for Worker Adjustment Assistance and Alternative Trade Adjustment Assistance on October 27, 2006, applicable to workers of Benchmark Electronics, Inc., Loveland Division, including on-site leased workers from Volt Services Group, Loveland, Colorado. The notice was published in the Federal Register on November 16, 2006 (71 FR 66799).

At the request of the State agency, the Department reviewed the certification for workers of the subject firm. The workers were engaged in the production (assemble, test, etc.) of flash memory test systems.

New information shows that when Benchmark Electronics, Inc., Loveland Division, closed in November 2006, a customer, Verigy US Development, retained the on-site leased workers from Volt Services Group to complete their outstanding orders of flash memory test systems.

Accordingly, the Department is amending the certification to include on-site leased workers who were retained by Verigy US Development.

The intent of the Department's certification is to include all workers of Benchmark Electronics, Inc., Loveland Division who were adversely affected by increased customer imports.

The amended notice applicable to TA-W-60,023 is hereby issued as follows:

“All workers of Benchmark Electronics, Inc., Loveland Division, including on-site leased workers from Volt Services Group who were retained by Verigy US Development, Loveland, Colorado, who became totally or partially separated from employment on or after September 6, 2005, through October 27, 2008, are eligible to apply for adjustment assistance under Section 223 of the Trade Act of 1974, and are also eligible to apply for alternative trade adjustment assistance under Section 246 of the Trade Act of 1974.”

Signed at Washington, DC this 17th day of October 2007.
Richard Church,
Certifying Officer, Division of Trade Adjustment Assistance.

[FR Doc. E7-21185 Filed 10-25-07; 8:45 am]

BILLING CODE 4510-FN-P